DEPARTMENT OF THE INTERIOR

Bureau of Land Management

[NV-030-7122-EU; N-79995; 8-08807; TAS: 14X8069]

Notice of Realty Action: Non-Competitive (Direct) Sale of Public Land in Mineral County, NV

AGENCY: Bureau of Land Management, Interior.

ACTION: Notice of Realty Action.

SUMMARY: The Bureau of Land Management (BLM) proposes to sell approximately 425 acres of public land within and adjacent to the Denton-Rawhide Mine in Mineral County, Nevada. The sale will be made under the provisions of Section 203 of the Federal Land Policy and Management Act (FLPMA), (43 U.S.C. 1713).

DATES: Interested parties may submit written comments regarding the proposed conveyance of the public land until February 19, 2008.

ADDRESSES: Mail written comments to the BLM Field Manager, Carson City Field Office, 5665 Morgan Mill Road, Carson City, NV 89701.

FOR FURTHER INFORMATION CONTACT: Jo Ann Hufnagle, (775) 885-6000.

SUPPLEMENTARY INFORMATION: On August 1, 2007, the BLM Nevada State Director approved the Final Denton-Rawhide Mine Land Sale Plan Amendment to the Carson City Consolidated Resource Management Plan, which identified the following described public land for disposal and found the land suitable for transfer out of Federal ownership by direct sale under the authority of Sections 203 and 209 of the Federal Land Policy and Management Act of 1976, as amended (43 U.S.C. 1713 and 1719):

Mount Diablo Meridian, Nevada

T. 13 N., R. 32 E.

Sec. 4, lots 6, 7, 8, and 9;

Sec. 5, lots 3, 4, 6, 7, 8, 9, 10, 11, 12, and 13 (eastern portions only of lots 4, 6, 10, and 11);

Sec. 8, lots 1, 2, 4, 5, 6, and 7;

Sec. 9, lots 1, 2, 3, 4, 5, 6, 7, and 8 (western portions only of lots 1, 4, 5 and 8).

The area described contains 425 acres, more or less.

Note: This description may be modified prior to sale upon final approval of official plats of survey which will involve amended lottings of portions of the public land. A map depicting the sale land is available for review at the Carson City Field Office.

On January 3, 2008, the above-described land is hereby segregated from appropriation under the public land laws, including the mining and mineral laws, except the sale provisions of FLPMA. Upon publication of this Notice of Realty Action and until completion of the sale, the BLM is no longer accepting land use applications affecting the identified public land, except applications for the amendment of previously filed right-of-way applications or existing authorizations to increase the term of the grants in accordance with 43 CFR 2807.15 and 2886.15. The segregative effect will terminate upon issuance of a patent, publication in the Federal Register of a termination of the segregation, or on January 4, 2010, unless extended by the BLM Nevada State Director in accordance with 43 CFR 2711.1-2(d) prior to the termination date.

The public land is proposed for sale to Kennecott Rawhide Mining Company (KRMC) at not less than the appraised fair market value, currently determined to be $32,000. KRMC owns 758 acres of land that surround or adjoin the public land proposed for sale and holds mining claims on all public land proposed for sale. The mining claims would be relinquished as a condition for conveyance. Use of the public land could be achieved prudently in conjunction with fee land owned by KRMC. Disposal of the lands to KRMC would serve important public objectives because its location is difficult and uneconomic to manage as part of the public lands. A mineral potential evaluation was completed for public land within the sale area and no known mineral values were identified. Agreement to purchase the land will constitute an application for conveyance of the mineral estate, in accordance with Section 209 of FLPMA. The designated buyer must include with their purchase payment a nonrefundable $50 filing fee for the conveyance of the mineral estate. The conveyance, when issued, will be subject to the provisions of FLPMA and applicable regulations of the Secretary of the Interior, and will contain as a reservation to the United States a right-of-way for ditches and canals reserved by the United States under the Act of August 30, 1890 (43 U.S.C. 945).

The conveyance would be subject to the following numbered terms and conditions in the patent to be issued:

1. Valid existing rights; and,

2. The purchaser/patentee, by accepting patent, agrees to indemnify, defend, and hold the United States harmless from any costs, damages, claims, causes of action, penalties, fines, liabilities, and judgments of any kind arising from the past, present or future acts or omissions of the patentee, its employees, agents, contractors, or lessees, or any third-party arising out of or in connection with the patentee's use and/or occupancy of the patented real property resulting in: (1) Violations of Federal, State, and local laws and regulations that are now or in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the patented real property, and any cleanup response, remedial action or other actions related in any manner to said solid or hazardous substances or wastes; or (6) Natural resource damages as defined by Federal and State law. This covenant shall be construed as running with the patented real property and may be enforced by the United States in a court of competent jurisdiction.

The approved appraisal report, maps, Resource Management Plan Amendment, Environmental Assessment, and other supporting documentation are available for review at the Carson City Field Office.

The public land will not be offered for sale until at least 60 days after publication of this notice of realty action. For a period until February 19, 2008, interested parties may submit written comments to the Carson City Field Office. Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Carson City Field Office, will be considered properly filed. Electronic mail, facsimile, or telephone comments will not be considered properly filed.

Any adverse comments will be reviewed by the BLM Nevada State Director, who may sustain, vacate, or modify this realty action. In the absence of any adverse comments, this realty action will become the final determination of the Department of the Interior.

(Authority: 43 CFR 2711.1-2)

Dated: December 27, 2007.
Donald T. Hicks,
Carson City Field Manager.

[FR Doc. E7-25560 Filed 1-2-08; 8:45 am]

BILLING CODE 4310-HC-P